FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 31, 2012.

A. Federal Reserve Bank of Kansas City (Dennis Denney, Assistant Vice President) 1 Memorial Drive, Kansas City, Missouri 64198-0001:

1. Troy and Crystal Faulkender, Oakley, Kansas; Jay and Brandy Todd, Rexford, Kansas; Darvin and Tammi Strutt, Colby, Kansas; Sharon and Ronnie Schamberger, Leslea and Brett Oelke, Brittany Schamberger, Taylore Schamberger, Jerry and Melissa Spresser, all of Hoxie, Kansas; Crystal Ann Trauer, trustee of the Laurence Duane Trauer Tax Shelter Trust and the Crystal Ann Trauer Revocable Trust, both in Hays, Kansas; Nichole and Bret Tremblay, Manhattan, Kansas; Larry and Julie Spresser, Pittsburg, Kansas; and Brian and Sheri Baalman, Menlo, Kansas; as a group acting in concert, to acquire voting shares of Big Mac Bancshares, Inc., Hoxie, Kansas, and thereby indirectly acquire voting shares of Peoples State Bank, McDonald, Kansas.

Board of Governors of the Federal Reserve System, December 11, 2012.
Margaret McCloskey Shanks,
Deputy Secretary of the Board

.

[FR Doc. 2012-30206 Filed 12-13-12; 8:45 am]

BILLING CODE 6210-01-P